DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before August 11, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 6, 2022.
Donald P. Burger,
Chief, General Approvals and Permits Branch.

Application No. | Applicant | Regulation(s) affected | Nature of the special permits thereof
SPECIAL PERMITS DATA
21382-N | CU Aerospace LLC | 173.232(g)(3) | To authorize the transportation in commerce of compressed gases in a non-DOT specification package. (modes 1, 4).
21383-N | Emergency Environmental Services, LLC | 173.185(f) | To authorize the transportation in commerce of damaged lithium batteries in non-spec packaging. (mode 1).
21385-N | Williams Advanced Engineering Limited | 173.185(a)(1), 173.185(b)(6) | To authorize the transportation in commerce of prototype and low production lithium ion batteries exceeding 35 kg net weight aboard cargo-only aircraft. (mode 4)
21387-N | Cobham Mission Systems Orchard Park Inc | 173.302a | To authorize the manufacture, mark, sale, and use of full wrapped fiber reinforced aluminum 6061-T6 lined cylinder meeting the ISO Standard 11119-2 except as specified herein. (modes 1, 2, 3, 4, 5).
21390-N | Bollore Logistics Germany Gmbh | 173.220(d), 173.185(a)(1), 173.185(e)(7) | To authorize the transportation in commerce of lithium ion batteries and cells in non-specification packaging (spacecraft). (mode 4)
21393-N | Bollore Logistics Germany Gmbh | 173.185(a)(1) | To authorize the transportation in commerce of prototype lithium batteries contained in equipment via cargo-only aircraft. (mode 4)
21394-N | Alucan Entec SA | 173.306(a)(3)(ii), 173.306(a)(3)(ii) | To authorize the manufacture, mark, sale and use of a certain non-DOT specification inside metal containers conforming to all regulations applicable to a DOT Specification 2Q inner non-refillable metal receptacle, except as specified herein. (mode 3)
21396-N | Porsche Cars North America, Inc | 173.185(f)(3) | To authorize the transportation in commerce of damaged, defective, and recalled lithium batteries with more than one lithium battery per outer packaging. (modes 1, 2, 3)
21397-N | Strategic Edge Imports, LLC | 172.204(a)(1), 172.301(a)(1), 172.301(c), 172.404(a), 172.404(b), 172.704(a)(1), 172.704(a)(3), 172.704(a)(3)(i), 172.704(a)(3)(ii), 172.704(a)(3)(iii), 172.704(a)(4) | To authorize the transportation in commerce of certain DOT 3AL, TC/3ALM and UN ISO 7866 cylinders that contain carbon dioxide, with alternative hazard communication. (modes 1, 2, 3)
21402-N | Daniels Sharpsmart, Inc | 173.196(a) | To authorize the transportation in commerce of infectious substances affecting humans in alternative packaging. (mode 1)

[FR Doc. 2022-14774 Filed 7-11-22; 8:45 am]

BILLING CODE 4909-60-P